DEPARTMENT OF HOUSING AND URBAN DEVELOPMENT

[Docket No. FR 5684-N-02]

Notice of Proposed Information Collection for Disaster Relief Appropriations Act, 2013 Public Comment Request

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: March 11, 2013.

ADDRESSES: Interested persons are invited to submit comments regarding this proposal. Comments should refer to the proposal by name and/or OMB Control Number and should be sent to: LaRuth Harper, Department of Housing Urban and Development, 451 7th Street SW., Room 7233, Washington, DC 20410.

FOR FURTHER INFORMATION CONTACT: Stanley Gimont, Director, Office of Block Grant Assistance at (202) 708-3587.

SUPPLEMENTARY INFORMATION: The Department will submit the proposed information collection to OMB for review, as required by the Paperwork Reduction Act of 1995 (44 U.S.C. chapter 35 as Amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Disaster Recovery Grant Reporting System—Revision to Add Hurricane Sandy and other Disaster Grants.

OMB Control Number: 2506-0165.

Description of the need for the Information and proposed use: The Disaster Recovery Grant Reporting (DRGR) System is a grants management system used by the Office of Community Planning and Development to monitor special appropriation grants under the Community Development Block Grant program. This collection pertains to Community Development Block Grant Disaster Recovery (CDBG-DR) and Neighborhood Stabilization Program (NSP) grant appropriations.

The CDBG program is authorized under Title I of the Housing and Community Development Act of 1974, as amended. Following major disasters, Congress appropriates supplemental CDBG funds for disaster recovery. According to Section 104(e)(1) of the Housing and Community Development Act of 1974, HUD is responsible for reviewing grantees' compliance with applicable requirements and their continuing capacity to carry out their programs. Grant funds are made available to states and units of general local government, Indian tribes, and insular areas, unless provided otherwise by supplemental appropriations statute, based on their unmet disaster recovery needs.

The recent Hurricane Sandy supplemental appropriation (Pub. L. 113-2) provides funding for Hurricane Sandy disaster recovery efforts and other eligible events in 2011, 2012 and 2013. The appropriation directs the Department to address these efforts in areas of greatest unmet need. The Department estimates that this will add 40 new grants to the portfolio currently overseen by the Disaster Recovery and Special Issues Division in the Office of Block Grant Assistance. This revision updates the previously approved DRGR PRA information collection to account for the increase in burden hours associated with these new CDBG-DR grants. Information collection requirements for NSP and NSP-TA grants will remain unchanged from the previously approved collection.

Agency form numbers, if applicable: SF-424 Application for Federal Assistance.

Members of affected public: DRGR is used to monitor CDBG-DR, NSP, and NSP-TA grants, as well as several programs that do not fall under the Office of Block Grant Assistance. Separate information collections have been submitted and approved for these programs. CDBG-DR and NSP grant funds are made available to states and units of general local government, Indian tribes, and insular areas, unless provided otherwise by supplemental appropriations statute. NSP-TA grant funds are awarded on a competitive basis and are open to state and local governments, as well as non-profit groups and consortia that may include for-profit entities.

Estimation of the total numbers of hours needed to prepare the Information collection including number of respondents, frequency of response, and hours of response:

Community Development Block Grant Disaster Recovery (CDBG-DR) Grants: The DRGR system has approximately 72 open CDBG disaster recovery grants. An additional 40 grants are anticipated as a result of the Hurricane Sandy appropriation. HUD requires each grantee to report their performance into the system quarterly. In addition, grantees submit vouchers for drawdown of funds as needed. Some grantees have more than one open grant under different appropriation rules and are required to report on grants separately.

For average sized grantees (<$100m in grant funds), the Department estimates 9 hours for quarterly reporting in DRGR. Larger grantees with funds in excess of $100M+ require a substantially greater number of reporting activities, thus averaging approximately 57 hours per quarter. The estimated annual total number of hours for Disaster Grant reporting is 11,485 for the first year of this collection (which includes one-time only submissions) and 10,977 for the second year (recurring reporting only).

Status of the proposed information collection: This notice precedes a continuation of the existing burden hour request.

Authority: The Paperwork Reduction Act of 1995, 44 U.S.C. chapter 35, as amended.

Dated: February 14, 2013.
Mark Johnston,
Deputy Assistant Secretary for Special Needs Programs.

[FR Doc. 2013-04173 Filed 2-22-13; 8:45 am]

BILLING CODE 4210-67-P